DEPARTMENT OF AGRICULTURE

Forest Service

Horsethief

AGENCY: Forest Service, USDA.

ACTION: Notice of intent to prepare an Environmental Impact Statement.

SUMMARY: The purpose of this notice is to inform the public that the Forest Service intends to prepare an environmental impact statement for the Horsethief project, Sierra National Forest Fresno County, California.

DATES: The public is asked to submit any issues regarding potential effects of the proposed action or alternatives by January 15, 2001.

ADDRESSES: Send written comments to Ray Porter, District Ranger, Pineridge/King River Ranger District, P.O. Box 559, Prather, California 93651.

FOR FURTHER INFORMATION CONTACT: Kim Sorini-Wilson, Team Leader at (559) 855-5355, or e-mail ksorini@fs.fed.us.

SUPPLEMENTARY INFORMATION:

Background and Early Public Involvement

In 1995, the NEPA process for Horsethief began; knowing the main focus would be to re-introduce fire into the ecosystem with fuels reduction through timber harvest. A letter was sent to the public, requesting preliminary input in defining the characteristics of a healthy and viable ecosystem and to assist in planning projects that would achieve those characteristics. Two public field trips to Horsethief occurred in June 1995 and specialists began gathering information about existing condition. A conscious decision was made by the Forest Supervisor to defer planning efforts in order to better understand ecosystem management. An ecosystem management plan was prepared and signed in June of 1997. The Plan is titled Horsethief Ecosystem Analysis Plan. From this Ecosystem Analysis an Environmental Assessment titled Horsethief Environmental Assessment was completed and sent out for comments in December 1999; with the comments received and new scientific information it was decided to prepare an Environmental Impact Statement. No additional public meetings are anticipated.

Proposed Action

The proposed action is to reintroduce fire, improve forest health, manage stand structure and density for the survival and growth of conifer/oak seedlings and reestablish conifers while providing desired spotted owl habitat within Spotted Owl Habitat Area (SOHA #14, FR031).

The need is due to the high risk of stand replacing fire, the potential loss to the current investment (plantations) from fire and disease, and the potential for fires to exceed the boundaries of one watershed. A current fire risk analysis has shown this watershed to be at high risk for a stand replacing fire.

The need for forest health improvement is due to high tree densities are increasing tree stress, susceptibility to stand replacing fire, susceptibility of insect attack and disease; and plantations are at risk to increased infestations of mistletoe from infected mistletoe trees.

The need to improve the habitat conditions of SOHA #14 is due to lack of nesting habitat, excessive foraging habitat, vegetation conditions are not appropriate for increasing non-overlapping canopy cover, and previously harvested areas are not providing nesting or foraging habitat.

The proposed activities are consistent with the LRMP and the Horsethief Ecosystem Analysis Plan. The project prescriptions will be following California Spotted Owl (CASPO) guidelines (USDA 1993) and the recommended direction suggested in the Regional Forester's letter of May 1, 1998.

Preliminary Alternatives to the Proposed Action

To comply with NEPA, the Forest Service will evaluate alternatives to the proposed action within the EIS, including No Action and other alternatives responding to public comments. Each alternative will be rigorously explored and evaluated, or rationale would be given for eliminating an alternative from detailed study. The range of alternatives to be considered would include, but not be limited to:

1. Fuels reduction and forest health—Fire is reintroduced through (1) thinning to prepare for burning; (2) the creation of DFPZs to assist in burning and to maintain fires to one watershed; (3) underburning conifer stands; (4) patch burning chaparral stands. Forest health is achieved through thinning and by removing mistletoe infested trees to reduce the risk of plantation loss from disease. The SOHA will not be entered under this alternative.

2. Fuels reduction, forest health and SOHA enhancement—Under this alternative all the activities listed above would occur and in SOHA #14 desired spotted owl habitat is created by (1) increasing canopy cover through conifer regeneration; and (2) maintaining potential nest trees. Stand structures within SOHA #14 are managed to provide desired spotted owl habitat while providing for the reintroduction of fire.

3. Fuels reduction, forest health and SOHA enhancement activities are conducted while maintaining or enhancing landscape level connectivity and stand level structure (denning, resting and foraging habitat) for the fisher.

The public will be invited to participate in the scoping process, and review of the draft environmental impact statement (DEIS). Comments from the public and other agencies will be used in preparation of the DEIS. The draft environmental impact statement is expected to be available for public review and comment in March 2001 and a final environmental impact statement in June 2001. The comment period on the draft environmental impact statement will be 45 days from the date the Environmental Protection Agency publishes the notice of availability in the Federal Register.

Comments received in response to this solicitation, including names and addresses of those who comment, will be considered part of the public record on this proposed action and will be available for public inspection. Comments submitted anonymously will be accepted and considered; however, those who submit anonymous comments will not have standing to appeal the subsequent decision under 36 CFR 215.

Additionally, pursuant to 7 CFR 1.27(d), any person may request the agency to withhold a submission from the public record by showing how the Freedom of Information (FOIA) permits such confidentiality. Persons requesting such confidentiality should be aware that, under the FOIA, confidentiality may be granted in only very limited circumstances, such as to protect trade secrets. The Forest Service will inform the requester of the agency's decision regarding the request for confidentiality, and where the request is denied, the agency will return the submission and notify the requester that the comments may be resubmitted with or without name and address. The Forest Service believes, at this early stage, it is important to give reviewers notice of several court rulings related to public participation in the environmental review process. First, reviewers of draft environmental statements must structure their participation in the environmental review of the proposal so that it is meaningful and alerts the agency to the reviewer's position and contentions. Vermont Yankee Nuclear Power Corp. v. NRDC, 435 U.S. 519,553 (1978). Also, environmental objections that could be raised at the draft environmental impact statement stage but that are not raised until after completion of the final environmental state may be waived or dismissed by the courts. City of Angoon v. Hodel, 803 F.2d 1016, 1022 (9th Cir. 1986) and Wisconsin Heritages, Inc. v. Harris, 409 F. Supp. 1334 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Dated: December 5, 2000.
James L. Boynton,
Forest Supervisor.

[FR Doc. 00-31535 Filed 12-11-00; 8:45 am]

BILLING CODE 3410-11-M